DEPARTMENT OF COMMERCE

International Trade Administration

[C-475-819]

Certain Pasta From Italy: Final Results of Expedited Five-Year (“Sunset”) Review of the Countervailing Duty Order

AGENCY: Import Administration, International Trade Administration, Department of Commerce

SUMMARY: On October 2, 2006, the Department of Commerce (“the Department”) published in the Federal Register the notice of initiation of the second five-year sunset review of the countervailing duty order on certain pasta (“pasta”) from Italy, pursuant to section 751(c) of the Tariff Act of 1930, as amended (“the Act”). See Initiation of Five-year (“Sunset”) Reviews, 71 FR 57921 (October 2, 2006) (“Second Sunset Review”). The Department has conducted an expedited sunset review of this order pursuant to section 751(c)(3)(B) of the Act and 19 CFR 351.218(e)(1)(ii)(C)(2). As a result of this sunset review, the Department finds that revocation of the countervailing duty order is likely to lead to continuation or recurrence of a countervailable subsidy at the levels indicated in the “Final Results of Review” section of this notice.

EFFECTIVE DATE: February 5, 2007.

FOR FURTHER INFORMATION CONTACT: Audrey R. Twyman or Brandon Farlander, AD/CVD Operations, Office 1, Import Administration, International Trade Administration, U.S. Department of Commerce, 14th Street and Constitution Ave., NW., Washington, DC 20230; telephone: (202) 482-3534 or (202) 482-0182, respectively.

SUPPLEMENTARY INFORMATION:

Background

The countervailing duty order which covers pasta from Italy was published in the Federal Register on July 24, 1996. See Notice of Countervailing Duty Order and Amended Final Affirmative Countervailing Duty Determination: Certain Pasta (“Pasta”) From Italy, 61 FR 38544 (July 24, 1996). On October 2, 2006, the Department initiated the second sunset review of this order, pursuant to section 751(c) of the Act. See Second Sunset Review. The Department received a notice of intent to participate from the following domestic parties: A. Zerega's Sons, Inc.; American Italian Pasta Company; Dakota Growers Pasta Company, Inc.; New World Pasta Company; and Philadelphia Macaroni Company (collectively, “domestic interested parties”), within the deadline specified in 19 CFR 351.218(d)(1)(i). The companies claimed interested party status under section 771(9)(C) of the Act, as manufacturers of a domestic-like product in the United States.

On October 12, 2006, the Department received a request for a 12-day extension of time from the Government of Italy (“GOI”) to submit its substantive response. The Department partially granted the GOI's request and extended the deadline for filing a substantive response to November 8, 2006. The same extension was also granted to the domestic interested parties, per their request. On November 8, 2006, the Department received complete substantive responses to the notice of initiation from the domestic interested parties and from the GOI. On November 2, 2006, we received a complete substantive response to the notice of initiation from the Delegation of the European Commission (“EC”).

The Department did not receive any substantive responses from any Italian producers or exporters of the merchandise covered by this order. Based on the fact that a government's response alone, normally, is not sufficient for full sunset reviews in which the orders are not done on an aggregate basis, we determined to conduct an expedited (120 day) sunset review of this order. See section 751(c)(3)(A) of the Act and 19 CFR 351.218(e)(1)(ii)(C)(2). See, e.g., Final Results of Expedited Sunset Reviews of Countervailing Duty Orders: Pure Magnesium and Alloy Magnesium from Canada, 70 FR 67140 (November 4, 2005). See also Letter to Robert Carpenter, Director, Office of Investigations, International Trade Commission, from Wendy Frankel, Director, Import Administration, Department of Commerce, regarding inadequate response to the notice of initiation from respondent interested parties (November 21, 2006); and Memorandum from Saliha Loucif, International Trade Compliance Analyst, to Susan Kuhbach, Office Director, Import Administration, Department of Commerce, regarding

“Adequacy Determination of the Second Sunset Review of the Countervailing Duty Order on Certain Pasta from Italy,” (November 21, 2006).

On January 19, 2007, the Department placed the calculation of the all others rate from the investigation onto the record of this sunset review and allowed parties to comment. We received comment from domestic interested parties on January 24, 2007. No hearing was held because none was requested.

Scope of the Order

Imports covered by the order are shipments of certain non-egg dry pasta in packages of five pounds four ounces or less, whether or not enriched or fortified or containing milk or other optional ingredients such as chopped vegetables, vegetable purees, milk, gluten, diastasis, vitamins, coloring and flavorings, and up to two percent egg white. The pasta covered by this scope is typically sold in the retail market, in fiberboard or cardboard cartons, or polyethylene or polypropylene bags of varying dimensions.

Excluded from the scope of the order are refrigerated, frozen, or canned pastas, as well as all forms of egg pasta, with the exception of non-egg dry pasta containing up to two percent egg white. Also excluded are imports of organic pasta from Italy that are accompanied by the appropriate certificate issued by the Instituto Mediterraneo Di Certificazione, Bioagricoop S.r.l., QC&I International Services, Ecocert Italia, Consorzio per il Controllo dei Prodotti Biologici, Associazione Italiana per l'Agricoltura Biologica, or Codex S.r.l. In addition, based on publicly available information, the Department has determined that, as of August 4, 2004, imports of organic pasta from Italy that are accompanied by the appropriate certificate issued by Bioagricert S.r.l. are also excluded from this order. See Memorandum from Eric B. Greynolds to Melissa G. Skinner, dated August 4, 2004, which is on file in the Department's Central Records Unit (“CRU”) in Room B-099 of the main Department building. Further, based on publicly available information, the Department has determined that, as of March 13, 2003, imports of organic pasta from Italy that are accompanied by the appropriate certificate issued by Instituto per la Certificazione Etica e Ambientale (ICEA) are also excluded from this order.

See Memorandum from Audrey Twyman to Susan Kuhbach, dated February 28, 2006, entitled “Recognition of Instituto per la Certificazione Etica e Ambientale (ICEA) as a Public Authority for Certifying Organic Pasta from Italy,” which is on file in the CRU.

The merchandise subject to review is currently classifiable under item 1902.19.20 of the Harmonized Tariff Schedule of the United States (“HTSUS”). Although the HTSUS subheadings are provided for convenience and customs purposes, the written description of the merchandise subject to the order is dispositive.

Scope Rulings

The Department has issued the following scope rulings to date:

(1) On August 25, 1997, the Department issued a scope ruling that multicolored pasta, imported in kitchen display bottles of decorative glass that are sealed with cork or paraffin and bound with raffia, is excluded from the scope of the antidumping and countervailing duty orders. See Memorandum from Edward Easton to Richard Moreland, dated August 25, 1997, which is on file in the CRU.

(2) On July 30, 1998, the Department issued a scope ruling finding that multipacks consisting of six one-pound packages of pasta that are shrink-wrapped into a single package are within the scope of the antidumping and countervailing duty orders. See Letter from Susan H. Kuhbach to Barbara P. Sidari, dated July 30, 1998, which is available in the CRU.

(3) On October 26, 1998, the Department self-initiated a scope inquiry to determine whether a package weighing over five pounds as a result of allowable industry tolerances is within the scope of the antidumping and countervailing duty orders. On May 24, 1999, we issued a final scope ruling finding that, effective October 26, 1998, pasta in packages weighing or labeled up to (and including) five pounds four ounces is within the scope of the antidumping and countervailing duty orders. See Memorandum from John Brinkmann to Richard Moreland, dated May 24, 1999, which is available in the CRU.

(4) On April 27, 2000, the Department self-initiated an anti-circumvention inquiry to determine whether Pastificio Fratelli Pagani S.p.A.'s importation of pasta in bulk and subsequent repackaging in the United States into packages of five pounds or less constitutes circumvention with respect to the antidumping and countervailing duty orders on pasta from Italy pursuant to section 781(a) of the Act and 19 CFR 351.225(b). See Certain Pasta from Italy: Notice of Initiation of Anti-Circumvention Inquiry of the Antidumping and Countervailing Duty Orders, 65 FR 26179 (May 5, 2000). On September 19, 2003, we published an affirmative finding of the anti-circumvention inquiry. See Anti-Circumvention Inquiry of the Antidumping and Countervailing Duty Orders on Certain Pasta from Italy: Affirmative Final Determinations of Circumvention of Antidumping and Countervailing Duty Orders, 68 FR 54888 (September 19, 2003).

Analysis of Comments Received

All issues raised in substantive responses by parties in this sunset review are addressed in the “Issues and Decision Memo for the Expedited Sunset Review of the Countervailing Duty Order on Certain Pasta from Italy; Final Results,” (“Decision Memo”), from Stephen J. Claeys, Deputy Assistant Secretary for Import Administration, to David M. Spooner, Assistant Secretary for Import Administration, dated January 30, 2007, which is hereby adopted by this notice. The issues discussed in the Decision Memo include the likelihood of continuation or recurrence of a countervailable subsidy, the net countervailable subsidy rate likely to prevail if the order were revoked, and the nature of the subsidies.

Parties can find a complete discussion of all issues raised in this sunset review and the corresponding recommendation in this public memorandum which is on file in B-099, the Central Records Unit, of the main Commerce building. In addition, a complete version of the Decision Memo can be accessed directly on the Department's Web page at http://ia.ita.doc.gov/frn/index.html. The paper copy and electronic version of the Decision Memo are identical in content.

Final Results of Review

The Department determines that revocation of the countervailing duty order on pasta from Italy is likely to lead to continuation or recurrence of countervailable subsidies at the following countervailing duty rates:

Manufacturer/exporter | Net subsidy rate (percent)
Agritalia, S.r.l. | 3.96
Agrrighi S.p.A. Industrie Alimentari | 3.85
De Matteis Agroalimentare S.p.A. | 3.48
Delverde, S.r.l. | 6.76
F.lli De Cecco di Filippo Fara S. Martino S.p.A. | 3.40
Industria Alimentare Colavita, S.p.A. | 3.01
Isola del Grano S.r.L. | 10.70
Italpast S.p.A. | 10.70
Italpasta S.r.L. | 3.85
La Molisana Alimentari S.p.A. | 4.82
Labor S.r.L. | 10.70
Molino e Pastificio De Cecco S.p.A. Pescara | 3.40
Pastificio Guido Ferrara | 2.34
Pastificio Campano, S.p.A. | 3.47
Pastificio Riscossa F.lli Mastromauro S.r.L. | 7.81
Tamma Industrie Alimentari di Capitanata | 6.76
“All Others” | 4.52

Notification Regarding Administrative Protective Orders

This notice also serves as the only reminder to parties subject to administrative protective orders (“APO”) of their responsibility concerning the return or destruction of proprietary information disclosed under APO in accordance with 19 CFR 351.305(a)(3). Timely notification of the return or destruction of APO materials or conversion to judicial protective order is hereby requested. Failure to comply with the regulations and terms of an APO is a violation which is subject to sanction.

We are issuing and publishing this determination and notice in accordance with sections 751(c), 752, and 777(i) of the Act.

Dated: January 30, 2007.
David M. Spooner,
Assistant Secretary for Import Administration.

[FR Doc. E7-1816 Filed 2-2-07; 8:45 am]

BILLING CODE 3510-DS-P